DEPARTMENT OF ENERGY

Federal Energy Regulatory Commission

[Docket No. CP12-495-000]

Kinder Morgan Interstate Gas Transmission LLC; Notice of Filing

Take notice that on August 6, 2012, Kinder Morgan Interstate Gas Transmission LLC (KMIGT), 370 Van Gordon Street, Lakewood, Colorado 80228, filed an application pursuant to Sections 7(b) and 7(c) of the Natural Gas Act (NGA), for authorization to abandon a 432-mile segment of the Pony Express Pipeline system (Pipeline Segment) located from Platte County, Wyoming to Lincoln County, Kansas and to construct new replacement facilities. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

KMIGT proposes to abandon the Pipeline Segment in place and sell it to Kinder Morgan Pony Express Pipeline LLC (KMPXP). The proposed abandonment also includes three natural gas compressor stations totaling 33,175 horsepower (hp), meter stations, and appurtenant facilities. These facilities will be removed. KMPXP will purchase, convert, own, and operate the Pipeline Segment as a crude oil pipeline to meet the increasing demand for pipeline transportation of crude oil. In order to maintain gas service of 104,000 Dth/day to existing firm customers, KMIGT proposes to construct new replacement facilities: (1) One new mainline compressor station totaling 14, 200 hp, (2) two lateral pipelines which will be approximately 3 miles and 22 miles in length, (3) two booster compressor units, 500 and 350 hp, and (4) certain auxiliary facilities. KMPXP will reimburse KMIGT for the costs associated with the construction of the new facilities. The total estimated construction cost of the proposed facilities is $56,605,800. KMIGT proposes in-service date of August 1, 2014.

Any questions regarding this application should be directed to Skip George, Manager of Regulatory, Kinder Morgan Interstate Gas Transmission LLC, 370 Van Gordon Street, Lakewood, Colorado 80228, phone (303) 914-4969.

Any person wishing to obtain legal status by becoming a party to the proceedings for this project should, on or before the below listed comment date, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see 18 CFR 385.2001(a)(1)(iii) and the instructions on the Commission's Web site under the “e-Filing” link. The Commission strongly encourages electronic filings.

Comment Date: September 5, 2012.

Dated: August 15, 2012.
Kimberly D. Bose,
Secretary.

[FR Doc. 2012-20597 Filed 8-21-12; 8:45 am]

BILLING CODE 6717-01-P